FEDERAL RETIREMENT THRIFT INVESTMENT BOARD

Notice of Board Meeting

DATES: December 17, 2021 at 10:00 a.m.

ADDRESSES: Telephonic. Dial-in (listen only) information: Number: 1-415-527-5035, Code: 2764 722 1247; or via web: https://tspmeet.webex.com/tspmeet/onstage/g.php?MTID=e1220191d046633c698c24283fba3fb14.

FOR FURTHER INFORMATION CONTACT: Kimberly Weaver, Director, Office of External Affairs, (202) 942-1640.

SUPPLEMENTARY INFORMATION:

Board Meeting Agenda

Open Session

1. Approval of the November 19, 2021 Board Meeting Minutes

2. Monthly Reports

(a) Participant Activity Report

(b) Investment Performance

(c) Legislative Report

3. Quarterly Report

(d) Vendor Risk Management Update

4. 2022/23 Internal Audit Plan Approval

Closed Session

Information covered under 5 U.S.C. 552b (c)(2) and (c)(9).

Authority: 5 U.S.C. 552b (e)(1).

Dated: December 1, 2021.
Dharmesh Vashee,
General Counsel, Federal Retirement Thrift Investment Board.

[FR Doc. 2021-26421 Filed 12-6-21; 8:45 am]

BILLING CODE P